ENVIRONMENTAL PROTECTION AGENCY

[FRL-9921-39-Region 5]

Proposed Prospective Purchaser Agreement for the Willow Run Powertrain Site in Ypsilanti, Michigan

AGENCY: Environmental Protection Agency, EPA.

ACTION: Notice; request for public comment.

SUMMARY: In accordance with the Prospective Purchaser Agreement, notice is hereby given of a proposed administrative settlement concerning a portion of the Willow Run Powertrain Site in Ypsilanti, Michigan with the following settling party: Yankee Air Force Incorporated. The settlement requires the Settling Party to, if necessary, execute and record a Declaration of Restrictive Covenant; provide access to the Property and exercise due care with respect to existing contamination. The settlement includes a covenant not to sue the Settling Party pursuant to the Comprehensive Environmental Response, Compensation, and Liability Act or the Resource Conservation and Recovery Act with respect to the Existing Contamination. Existing Contamination is defined as any Waste Material present or existing on or under the Property as of the Effective Date of the Settlement Agreement; any Waste Material that migrated from the Property prior to the Effective Date; and any Waste Material presently at the Site that migrates onto, on, under, or from the Property after the Effective Date.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the EPA, Region 5, Records Center, 77 W. Jackson Blvd., 7th Fl., Chicago, Illinois 60604.

DATES: Comments must be submitted on or before 30 days after publication in the Federal Register.

ADDRESSES: The proposed settlement is available for public inspection at the EPA, Region 5, Records Center, 77 W. Jackson Blvd., 7th Fl., Chicago, Illinois 60604. A copy of the proposed settlement may be obtained from Peter Felitti, Assoc. Regional Counsel, EPA, Office of Regional Counsel, Region 5, 77 W. Jackson Blvd., mail code: C-14J, Chicago, Illinois 60604. Comments should reference the Willow Run Powertrain Site, Ypsilanti, Michigan and EPA Docket No. V-W-15-C-017 and should be addressed to Peter Felitti, Assoc. Regional Counsel, EPA, Office of Regional Counsel, Region 5, 77 W. Jackson Blvd., mail code: C-14J, Chicago, Illinois 60604.

FOR FURTHER INFORMATION CONTACT: Peter Felitti, Assoc. Regional Counsel, EPA, Office of Regional Counsel, Region 5, 77 W. Jackson Blvd., mail code: C-14J, Chicago, Illinois 60604.

SUPPLEMENTARY INFORMATION: The Settling Party proposes to acquire ownership of a portion of the former General Motors Corporation North American operation, at 2930 Ecorse Road, Ypsilanti, Michigan. The EPA identification number for the Site is # MID980587893. The Site is one of the 89 sites that were placed into an Environmental Response Trust (the “Trust”) as a result of the resolution of the 2009 GM bankruptcy. The Trust is administrated by Revitalizing Auto Communities Environmental Response.

Dated: December 12, 2014.
Richard Karl,
Director, Superfund Division.

[FR Doc. 2014-30938 Filed 1-5-15; 8:45 am]

BILLING CODE 6560-50-P